ENVIRONMENTAL PROTECTION AGENCY

40 CFR Part 62

[MS23-200015b; FRL -6574-4]

Approval and Promulgation of State Plans For Designated Facilities and Pollutants: Mississippi

AGENCY: Environmental Protection Agency (EPA).

ACTION: Proposed rule.

SUMMARY: EPA is proposing to apporve the Section 111(d) Plan for the State of Mississippi submitted by the Mississippi Department of Environmental Quality (DEQ) on May 5, 1999, for implementing and enforcing the Emissions Guidelines applicable to existing Hospital/Medical/Infectious Waste Incinerators. The Plan was submitted by the Mississippi DEQ to satisfy certain Federal Clean Air Act requirements. In the Final Rules Section of this Federal Register, EPA is approving the Mississippi State Plan submittal as a direct final rule without prior proposal because the Agency views this as a noncontroversial submittal and anticipates that it will not receive any significant, material, and adverse comments. A detailed rationale for the approval is set forth in the direct final rule. If no significant, material, and adverse comments are received in response to that rule, no further activity is contemplated in relation to this rule. If EPA receives adverse comments, the direct final rule will be withdrawn and all public comments received will be addressed in a subsequent final rule based on this rule. EPA will not institute a second comment period on this action.

DATES: Comments must be received in writing by May 8, 2000.

ADDRESSES: Written comments should be addressed to Michele Notarianni at the EPA Regional Office listed below. Copies of the documents relevant to this rule are available for public inspection during normal business hours at the following locations. The interested persons wanting to examine these documents should make an appointment with the appropriate office at least 24 hours before the day of the visit.

Environmental Protection Agency, Region 4, Air Planning Branch, 61 Forsyth Street, SW, Atlanta, Georgia 30303-3014. [Staff contact: Michele Notarianni at telephone number 404/562-9031 or e-mail address: notarianni.michele@epa.gov.]

Mississippi Department of Environmental Quality, Air Division, P.O. Box 10385, Jackson, Mississippi 39289-0385.

FOR FURTHER INFORMATION CONTACT: Michele Notarianni at 404/562-9031 or Scott Davis at 404/562-9127.

SUPPLEMENTARY INFORMATION: See the information provided in the Direct Final action which is located in the Rules Section of this Federal Register.

Dated: March 16, 2000.
A. Stanley Meiburg,
Acting Regional Administrator, Region 4.

[FR Doc. 00-8529 Filed 4-6-00; 8:45 am]

BILLING CODE: 6560-50-P